FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 40901 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

AAB Logistics, LLC (NVO & OFF), 201 E. Dundee Road, #2, Palatine, IL 60074, Officers: Alexander Gibson, President (QI), Daniel Cleary, Secretary, Application Type: Transfer to Dix McGuire International, Inc. dba Oceanic Lines.

ADM Logistics, Inc. (NVO & OFF), 4666 Faries Parkway, Decatur, IL 62526, Officers: Mark D. Schweitzer, Vice President (QI), Joseph D. Taets, President, Application Type: New NVO & OFF License.

Cala Distribution, LLC (NVO & OFF), 2705 NW 109th Avenue, Miami, FL 33172, Officers: Pedro Salcedo, Manager (QI), Daniel S. Toledano, Managing Director, Application Type: Add OFF Service.

Diesel Shipping Inc. (OFF), 8381 NW 66th Street, Miami, FL 33166, Officers: Gustavo Gonzalez, President (QI), Cynthia Cely, Vice President, Application Type: New OFF License.

Farkas Worldwide Shipping Inc. (NVO), 1420 W. Flager Street, Miami, FL 33135, Officers: Heather R. Farkas, President (QI), Maria A. Farkas, Secretary, Application Type: New NVO License.

G.B. Multi Services, Inc. (OFF), 10843 NW 7th Street, #23, Miami, FL 33172, Officer: Gabriela A. Tirado, President (QI), Application Type: New OFF License.

High Priority Solutions Corp (NVO & OFF), 5761 SW 132 Terrace, Miami, FL 33156, Officers: Maria V. Gurdian, Vice President (QI), Gustavo Gurdian, President, Application Type: New NVO & OFF License.

J&T Logistics Inc. dba EDI Logistics Group (NVO & OFF), 18747 S. Laurel Park Road, Rancho Dominguez, CA 90220, Officers: Ivan Liew, Secretary (QI), Chian Guan, CEO, Application Type: New NVO License.

KJW-CHB, LLC (OFF), 765 North Route 83, Bensenville, IL 60106, Officer: Keh J. Wu, President (QI), Application Type: New OFF License.

KT Logistics, Inc. (NVO & OFF), 1470 W. 9th Street, Suite A, Upland, CA 91786, Officers: Mary Ann Ruiz, COO (QI), James Amakasu, President, Application Type: Name Change to Sedona Express, Inc.

MCLimex, LLC (OFF), 1634 S. Mason Road, Katy, TX 77450, Officers: Bernard Vo, Member (QI), Minh Nguyen, Member, Application Type: New OFF License.

Mota Import Export LLC dba MTI Mota Import Export Cargo Express (NVO), 175 Smith Street, Perth Amboy, NJ 08861, Officers: Mercedes Nunez, Manager (QI), Angel M. Ramirez, Chief Executive Manager, Application Type: New NVO License.

Reliable Consolidated Shipping L.L.C. (OFF), 5707 Yachtsman Court, Browns Summit, NC 27214, Officer: Linda K. Jehu-appiah, Member (QI), Application Type: New OFF License.

Robertson Forwarding Co., Inc. (NVO & OFF), 4469 NW 97th Avenue, Doral, FL 33178, Officer: Joan L. Robertson, President (QI), Application Type: Add NVO Service.

Shiplink Trading Corp. dba Shiplink Logistics (NVO & OFF), 164-23 75th Road, #1F, Fresh Meadows, NY 11366, Officer: Linda W. Wu, President (QI), Application Type: New NVO & OFF License.

World Pioneer, Inc. (NVO), 54 Stage Lane, Staten Island, NY 10304, Officer: William Luo, President (QI), Application Type: New NVO License.

World-Wide Shipping Lines, Inc. (NVO), 3400 McIntosh Road, Bldg. B Bay #8, Port Everglades, Ft. Lauderdale, FL 33316, Officer: John Tominelli, President (QI), Application Type: New NVO License.

By the Commission.
Dated: September 28, 2012.
Karen V. Gregory,
Secretary.

[FR Doc. 2012-24384 Filed 10-2-12; 8:45 am]

BILLING CODE 6730-01-P